DEPARTMENT OF DEFENSE

Office of the Secretary

[Transmittal No. 19-04]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-04 with attached Policy Justification and Sensitivity of Technology.

Dated: June 7, 2019.
Aaron T. Siegel,
Alternate OSD Federal Register Liaison Officer, Department of Defense.

BILLING CODE 5001-06-P

BILLING CODE 5001-06-C

Transmittal No. 19-04

Notice of Proposed Issuance of Letter of Offer Pursuant to Section 36(b)(1) of the Arms Export Control Act, as amended

(i) Prospective Purchaser: Government of Spain

(ii) Total Estimated Value:

Major Defense Equipment * | $ 89.6 million
Other | $ 17.4 million
TOTAL | $107.0 million

(iii) Description and Quantity or Quantities of Articles or Services under Consideration for Purchase:

Major Defense Equipment (MDE):

Eight (8) Assault Amphibious Vehicles, Personnel (AAVP-7A1) Reliability, Availability, Maintainability/Rebuilt to Standard (RAM/RS)

Two (2) Assault Amphibious Vehicles, Command (AAVC-7A1) Reliability, Availability, Maintainability/Rebuilt to Standard (RAM/RS)

One (1) Assault Amphibious Vehicle, Recovery (AAVR-7A1) Reliability, Availability, Maintainability/Rebuilt to Standard (RAM/RS)

Non-MDE: Also included are Enhanced Armor Applique Kits (EAAK), spare and repair parts, tools and test equipment, technical data and publications, training and training material, U.S. Government and contractor technical and logistics support services, and other related elements of logistics and program support.

(iv) Military Department: Navy (SP-P-LHO)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: March 14, 2019

* As defined in Section 47(6) of the Arms Export Control Act.

POLICY JUSTIFICATION

Spain—Assault Amphibious Vehicles

The Government of Spain has requested to buy eight (8) Assault Amphibious Vehicles, Personnel (AAVP-7A1) Reliability, Availability, Maintainability/Rebuilt to Standard (RAM/RS); two (2) Assault Amphibious Vehicles, Command (AAVC-7A1) Reliability, Availability, Maintainability/Rebuilt to Standard (RAM/RS); and one (1) Assault Amphibious Vehicle, Recovery (AAVR-7A1) Reliability, Availability, Maintainability/Rebuilt to Standard (RAM/RS). Also included are Enhanced Armor Applique Kits (EAAK), spare and repair parts, tools and test equipment, technical data and publications, training and training material, U.S. Government and contractor technical and logistics support services, and other related elements of logistics and program support. The total estimated program cost is $107 million.

This proposed sale will support the foreign policy and national security of the United States by improving the security of a NATO ally which is an important force for political stability and economic progress in Europe. It is vital to the U.S. national interest to assist Spain in developing and maintaining a strong and ready self-defense capability.

The proposed addition of these eleven (11) vehicles to Spain's fleet will afford more flexibility and maintain Spain's expeditionary capability to counter regional threats and continue to enhance stability in the region. Spain currently operates 19 Assault Amphibious Vehicles (AAVs) and is proficient at using them to their fullest capability. Spain will have no difficulty absorbing these additional vehicles.

The proposed sale of this equipment will not alter the basic military balance in the region.

The principal contractor will be BAE Systems, York, Pennsylvania, and Anniston, Alabama. There are no known offset agreements proposed in connection with this potential sale.

Implementation of this proposed sale will not require the assignment of any additional U.S. Government or contractor representative in Spain.

There will be no adverse impact on U.S. defense readiness as a result of this proposed sale.

Transmittal No. 19-04

Notice of Proposed Issuance of Letter of Offer Pursuant to Section 36(b)(1) of the Arms Export Control Act

Annex

Item No. vii

(vii) Sensitivity of Technology:

1. The vulnerability to countermeasure information for Assault Amphibious Vehicles is considered classified SECRET.

2. If a technologically advanced adversary were to obtain knowledge of the hardware and software elements, the information could be used to develop countermeasures or equivalent systems which might reduce system effectiveness or be used in the development of a system with similar or advanced capabilities.

3. A determination has been made that the Government of Spain can provide substantially the same degree of protection for the sensitive technology being released as the U.S. Government. This sale is necessary in furtherance of the U.S. foreign policy and national security objectives outlined in the Policy Justification.

4. All defense articles and services listed in this transmittal have been authorized for release and export to the Government of Spain.

[FR Doc. 2019-12416 Filed 6-11-19; 8:45 am]

BILLING CODE 5001-06-P